DEPARTMENT OF THE INTERIOR

Bureau of Indian Affairs

[189A2100DD/AAKC001030/A0A501010.999900]

Proclaiming Certain Lands as Reservation for the Sault Ste. Marie Tribe of Chippewa Indians, Michigan

AGENCY: Bureau of Indian Affairs, Interior.

ACTION: Notice.

SUMMARY: This notice informs the public that the Principal Deputy Assistant Secretary—Indian Affairs, exercising the authority of the Assistant Secretary—Indian Affairs, proclaimed approximately 79.54 acres, more or less, an addition to the reservation of the Sault Ste. Marie Tribe of Chippewa Indians, Michigan on March 12, 2018.

FOR FURTHER INFORMATION CONTACT: Ms. Sharlene M. Round Face, Bureau of Indian Affairs, Division of Real Estate Services, 1849 C Street NW, MS-4642-MIB, Washington, DC 20240, telephone (202) 208-3615.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 5110) for the lands described below. These lands were proclaimed to be part of the Sault Ste. Marie Tribe of Chippewa Indians, Michigan Reservation in Mackinac County, Michigan.

Sault Ste. Marie Tribe of Chippewa Indians, Michigan Reservation

1 Parcel—Michigan Meridian, Mackinac County, Michigan

Legal Description Containing 79.54 Acres, More or Less

Brown Parcel 469-T-38

Lot 2, Section 19, Township 41 North, Range 3 West and the South ½ of the Southwest ¼ of said Section 19, Township 41 North, Range 3 West, lying Southerly of a line described as beginning at a point 650 feet Northerly along the centerline of Mackinac Trail and South line of Section 19; thence Northeasterly to the Southeast corner of the Northwest ¼ of the Southwest ¼ of Section 19, Township 41 North, Range 3 West, Michigan Meridian, Michigan. Containing 79.54 acres, more or less.

The above-described lands contain a total of 79.54 acres, more or less, which are subject to all valid rights, reservations, rights-of-way, and easements of record.

This proclamation does not affect title to the lands described above, nor does it affect any valid existing easements for public roads, highways, public utilities, railroads, pipelines, or any other valid easements or rights-of-way or reservations of record.

Dated: March 12, 2018.
John Tahsuda,
Principal Deputy Assistant Secretary—Indian Affairs Exercising the Authority of the Assistant Secretary—Indian Affairs.

[FR Doc. 2018-07475 Filed 4-10-18; 8:45 am]

BILLING CODE 4337-15-P